DEPARTMENT OF STATE

[Public Notice 12395]

60-Day Notice of Proposed Information Collection: Four DDTC Information Collections

ACTION: Notice of request for public comments.

SUMMARY: The Department of State is seeking Office of Management and Budget (OMB) approval for the information collections described below. In accordance with the Paperwork Reduction Act of 1995, we are requesting comments on these collections from all interested individuals and organizations. The purpose of this notice is to allow 60 days for public comment preceding submission of the collections to OMB.

DATES: The Department will accept comments from the public up to July 5, 2024.

ADDRESSES: You may submit comments by any of the following methods:

• Web: Persons with access to the internet may comment on this notice by going to www.Regulations.gov. You can search for the document by entering “Docket Number: DOS-2024-0016” in the Search field. Then click the “Comment Now” button and complete the comment form.

• Email: DDTCPublicComments@state.gov.

You must include the DS form number (if applicable), information collection title, and the OMB control number in any correspondence.

FOR FURTHER INFORMATION CONTACT: Direct requests for additional information regarding the collection listed in this notice, including requests for copies of the proposed collection instrument and supporting documents, to Andrea Battista, SA-1, 12th Floor, Directorate of Defense Trade Controls, Bureau of Political Military Affairs, U.S. Department of State, Washington, DC 20522-0112, via phone at 202-992-0973, or via email at battistaal@state.gov.

SUPPLEMENTARY INFORMATION: • Title of Information Collection: Application/License for Permanent Export of Unclassified Defense Articles and Related Unclassified Technical Data.

• OMB Control Number: 1405-0003.

• Type of Request: Extension of a Currently Approved Collection.

• Originating Office: Bureau of Political-Military Affairs, Directorate of Defense Trade Controls, PM/DDTC.

• Form Number: DSP-5.

• Respondents: Business, Nonprofit Organizations, and Individuals.

• Estimated Number of Respondents: 1,668.

• Estimated Number of Responses: 16,845.

• Average Time per Response: 1 hour.

• Total Estimated Burden Time: 16,845 hours.

• Frequency: On Occasion.

• Obligation to Respond: Required to Obtain or Retain a Benefit.

• Title of Information Collection: Application/License for Temporary Import of Unclassified Defense Articles.

• OMB Control Number: 1405-0013.

• Type of Request: Extension of Currently Approved Collection.

• Originating Office: Bureau of Political-Military Affairs, Directorate of Defense Trade Controls, PM/DDTC.

• Form Number: DSP-61.

• Respondents: Business, Nonprofit Organizations, and Individuals.

• Estimated Number of Respondents: 141.

• Estimated Number of Responses: 572.

• Average Time per Response: 30 minutes.

• Total Estimated Burden Time: 286 hours.

• Frequency: On Occasion.

• Obligation to Respond: Required in Order to Obtain or Retain Benefits.

• Title of Information Collection: Application/License for Temporary Export of Unclassified Defense Articles.

• OMB Control Number: 1405-0023.

• Type of Request: Extension of Currently Approved Collection.

• Originating Office: Bureau of Political-Military Affairs, Directorate of Defense Trade Controls, PM/DDTC.

• Form Number: DSP-73.

• Respondents: Business and Nonprofit Organizations.

• Estimated Number of Respondents: 340.

• Estimated Number of Responses: 2,029.

• Average Time per Response: 1 hour.

• Total Estimated Burden Time: 2,029 hours.

• Frequency: On Occasion.

• Obligation to Respond: Required in Order to Obtain or Retain Benefits.

• Title of Information Collection: Application for Amendment to License for Export or Import of Unclassified Defense Articles and Related Unclassified Technical Data.

• OMB Control Number: 1405-0092.

• Type of Request: Extension of Currently Approved Collection.

• Originating Office: Bureau of Political-Military Affairs, Directorate of Defense Trade Controls, PM/DDTC.

• Form Number: DSP-6; DSP-62; DSP-74.

• Respondents: Business, Nonprofit Organizations, and Individuals.

• Estimated Number of Respondents: 440.

• Estimated Number of Responses: 1,742.

• Average Time per Response: 30 minutes.

• Total Estimated Burden Time: 871 hours.

• Frequency: On Occasion.

• Obligation to Respond: Required in Order to Obtain or Retain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The export, temporary import, and brokering of defense articles, including technical data, and defense services are authorized by the Department of State, Bureau of Political-Military Affairs, Directorate of Defense Trade Controls (DDTC) in accordance with the International Traffic in Arms Regulations (“ITAR,” 22 CFR parts 120-130) and section 38 of the Arms Export Control Act (AECA). Any person who engages in the United States in the business of manufacturing, brokering, exporting, or temporarily importing defense articles, including technical data, or furnishing defense services must register with the Department of State. Manufacturers who do not engage in exporting must nevertheless register. Additionally, any person who intends to export or to import temporarily a defense article must obtain the approval from DDTC prior to the export or temporary import, unless the export or temporary import qualifies for an exemption. The applicant must be registered with DDTC prior to submitting an application or using an exemption. Also, registered brokers must submit annual reports regarding all brokering activities that were transacted, and registered manufacturers and exporters must maintain records of defense trade activities for five years.

1405-0003, Application/License for Permanent Export of Unclassified Defense Articles and Related Unclassified Technical Data: In accordance with part 123 of the ITAR, any person who intends to permanently export unclassified defense articles or unclassified technical data must obtain DDTC approval prior to export. The “Application/License for Permanent Export of Unclassified Defense Articles and Related Unclassified Technical Data” (Form DSP-5) is the licensing vehicle typically used to obtain permission for the permanent export of unclassified defense articles, including unclassified technical data covered by the U.S. Munitions List (USML). This form is an application that, when approved, signed and dated by an official of DDTC, serves as the applicant's authorization for the permanent export of unclassified USML articles.

1405-0013, Application/License for Temporary Import of Unclassified Defense Articles: In accordance with part 123 of the ITAR, any person who intends to temporarily import unclassified defense articles must obtain DDTC authorization prior to import. The “Application/License for Temporary Import of Unclassified Defense Articles” (Form DSP-61) is the licensing vehicle typically used to obtain permission for the temporary import of unclassified defense articles covered by the USML. This form is an application that, when completed and approved by DDTC, it constitutes the official record and authorization for the temporary commercial import of unclassified USML articles, pursuant to the AECA and the ITAR.

1405-0023, Application/License for Temporary Export of Unclassified Defense Articles: In accordance with part 123 of the ITAR, any person who intends to temporarily export unclassified defense articles must obtain authorization from DDTC prior to export. The “Application/License for Temporary Export of Unclassified Defense Articles” (Form DSP-73) is the licensing vehicle typically used to obtain permission for the temporary export of unclassified defense articles covered by the USML. This form is an application that, when completed and approved by DDTC, it constitutes the official record and authorization for the temporary commercial export of unclassified USML articles, pursuant to the AECA and the ITAR.

1405-0092, Application for Amendment to License for Export or Import of Unclassified Defense Articles and Related Unclassified Technical Data: In accordance with part 123 of the ITAR, any person who intends to permanently export, temporarily import, or temporarily export unclassified or classified defense articles or related technical data must obtain DDTC authorization. This information collection is used by private industry to make changes in an approved Form DSP-5, Form DSP-61, or Form DSP-73. Upon approval, the amendment form along with the original license constitutes the authority to export or temporarily import.

Methodology

This information collection may be sent to DDTC via the following methods: electronically or by mail.

Michael J. Vaccaro,
Deputy Assistant Secretary for Defense Trade Controls, U.S. Department of State.

[FR Doc. 2024-09784 Filed 5-3-24; 8:45 am]

BILLING CODE 4710-25-P